DEPARTMENT OF HOMELAND SECURITY

Federal Emergency Management Agency

[Docket ID: FEMA-2018-0020; OMB No. 1660-0030]

Agency Information Collection Activities: Submission for OMB Review; Comment Request; Manufactured Housing Operations Forms

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. This notice seeks comments concerning the collection of information related to FEMA's temporary housing assistance, which provides temporary housing to eligible survivors of federally declared disasters. This information is required to determine whether a potential site supports the installation of a temporary housing unit, to obtain permission to place the temporary housing unit on the property, to allow ingress and egress to the property where the temporary housing unit is placed, and to document the installation and maintenance of the unit.

DATES: Comments must be submitted on or before September 27, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Elizabeth McDowell, Supervisory Program Specialist, FEMA, Recovery Directorate, at (540) 686-3630.

SUPPLEMENTARY INFORMATION: This proposed information collection previously published in the Federal Register on April 4, 2018 at 83 FR 14472 with a 60 day public comment period. FEMA received one comment requesting copies of the Manufactured Housing Operations Forms. Copies of each form was sent to the requester. The purpose of this notice is to notify the public that FEMA will submit the information collection abstracted below to the Office of Management and Budget for review and clearance.

Collection of Information

Title: Manufactured Housing Operations Forms.

Type of Information Collection: Extension without change of a currently approved information collection.

OMB Number: 1660-0030.

Form Titles and Numbers: FEMA Form 010-0-9, Request for the Site Inspection; FEMA Form 010-0-10, Landowner's Authorization Ingress-Egress Agreement and FEMA Form 010-0-10S, Autorización del Propietario/Acuerdo de Entrada y Salida; FEMA Form 009-0-130, Manufactured Housing Unit Maintenance Work Order; FEMA Form 009-0-136, Manufactured Housing Unit Installation Work Order; FEMA Form 009-0-138, Manufactured Housing Unit Inspection Report.

Abstract: The Robert T. Stafford Disaster Relief and Emergency Assistance Act authorizes the President to provide temporary housing units in the form of manufactured housing, recreational vehicles or other readily fabricated dwellings to eligible applicants who require direct temporary housing as a result of a major disaster. The information collected is necessary to determine the feasibility of the site for placement of temporary housing and to provide FEMA with access to place the temporary housing unit as well as retrieve it at the end of the use.

Affected Public: Individuals or households, Business or other for-profits.

Estimated Number of Respondents: 25,000.

Estimated Number of Responses: 25,000.

Estimated Total Annual Burden Hours: 4,167.50.

Estimated Total Annual Respondent Cost: $193,221.97.

Estimated Respondents' Operation and Maintenance Costs: $0.

Estimated Respondents' Capital and Start-Up Costs: $0.

Estimated Total Annual Cost to the Federal Government: $2,165,310.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Rachel Frier,
Records Management Branch Chief, Office of the Chief Administrative Officer, Mission Support, Federal Emergency Management Agency, Department of Homeland Security.

[FR Doc. 2018-18561 Filed 8-27-18; 8:45 am]

BILLING CODE 9111-19-P